DEPARTMENT OF TRANSPORTATION

Federal Aviation Administration

14 CFR Part 39

[Docket No. FAA-2008-1312; Directorate Identifier 2008-CE-065-AD]

RIN 2120-AA64

Airworthiness Directives; Hawker Beechcraft Corporation Models 1900, 1900C, and 1900D Airplanes

AGENCY: Federal Aviation Administration (FAA), DOT.

ACTION: Supplemental notice of proposed rulemaking (NPRM); Reopening of the comment period.

SUMMARY: We are revising an earlier proposed airworthiness directive (AD) that applies to certain Hawker Beechcraft Corporation Models 1900, 1900C, and 1900D airplanes. The earlier NPRM would have required a one-time visual inspection and repetitive ultrasonic inspections of the left and right main landing gear (MLG) actuators for leaking and/or cracks with replacement of the actuator if leaking and/or cracks are found. The earlier NPRM resulted from reports of leaking and cracked actuators. This proposed AD would require the same actions as the earlier NPRM. Since the earlier NPRM, we have identified a MLG overhauled actuator part number and a MLG actuator approved by parts manufacturer approval (PMA) by identicality. We propose to expand the applicability to include airplanes equipped with these additional part numbers. Because this imposes an additional burden over that proposed in the earlier NPRM, we are reopening the comment period to allow the public the chance to comment on these additional MLG actuators.

DATES: We must receive comments on this proposed AD by September 30, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Hawker Beechcraft Corporation, P.O. Box 85, Wichita, Kansas 67201-0085; telephone: (800) 429-5372 or (316) 676-3140; Internet: http://pubs.hawkerbeechcraft.com.

FOR FURTHER INFORMATION CONTACT: Don Ristow, Aerospace Engineer, 1801 Airport Road, Room 100, Wichita, Kansas 67209; telephone: (316) 946-4120; fax: (316) 946-4107.

SUPPLEMENTARY INFORMATION:

Comments Invited

We invite you to send any written relevant data, views, or arguments regarding this proposed AD. Send your comments to an address listed under the ADDRESSES section. Include the docket number, “FAA-2008-1312; Directorate Identifier 2008-CE-065-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

On December 8, 2008, we issued a proposal to amend part 39 of the Federal Aviation Regulations (14 CFR part 39) to include an AD that would apply to certain Hawker Beechcraft Corporation Models 1900, 1900C, and 1900D airplanes. This proposal was published in the Federal Register as a notice of proposed rulemaking (NPRM) on December 15, 2008 (73 FR 75977). The NPRM proposed to require a one-time visual inspection and repetitive ultrasonic inspections of the left and right main landing gear (MLG) actuators for leaking and/or cracks with replacement of the actuator if leaking and/or cracks are found.

Comments

We provided the public the opportunity to participate in developing this AD. The following presents the comments received on the proposal and FAA's response to each comment:

Comment Issue No. 1: Report to Type-Certificate (TC) Holder by E-Mail

Wayne R. Modny and Hawker Beechcraft Corporation request the option of using e-mail to send the report required in this AD.

The FAA agrees with allowing owners/operators to comply with the reporting requirement by e-mail. However, we have changed the proposed AD action and no longer require owners/operators to report to the TC holder. We retained the proposed reporting requirement to the FAA and provided an e-mail address for complying with that proposed AD action.

Comment Issue No. 2: Replacement of Actuator With Other Part Number (P/N) Actuators

Gulfstream International Airlines requests that we not limit replacement of the MLG actuator to P/N 114-380041-17 because other FAA-approved P/Ns (P/N 114-380041-7 or -9) could be used as terminating action. The commenter states that terminating action should consist of replacing the affected actuator with an actuator of a P/N listed in the Hawker Beechcraft illustrated parts catalog other than P/N 114-380041-15.

The FAA agrees. Our intent was to not allow installation of P/Ns 114-380041-11 and 114-380041-13 and only allow installation of P/N 114-380041-15 (or P/N 114-380041-15OVH) if the end caps were new or had been inspected per paragraph (e)(1), (e)(2), or (e)(3) of this proposed AD. Installation of other FAA-approved actuators as terminating action is acceptable. The service bulletin calls out replacement parts that are readily available. The P/N 114-380041-17 is the latest part number available that is not affected by the inspections in this proposed AD. The earlier P/N 114-380041-7 or P/N 114-380041-9 actuator may be used as terminating action in place of the P/N 114-380041-17; however, parts availability is not guaranteed.

We will change the proposed AD action to allow installation of other FAA-approved actuators in paragraph (e)(4) of this AD.

Comment Issue No. 3: Ultrasonic Inspections

Hawker Beechcraft Corporation requests that we remove the words “FAA-approved equivalent P/N” from the replacement parts language of the AD. Using “FAA-approved equivalent P/N” for replacement parts could be misintrepeted to mean that 114-380041 actuators manufactured by Airtight or Tactair may also be required to do the ultrasonic inspections. The ultrasonic inspection defined in the Hawker Beechcraft Service Bulletin 32-3870, dated April 2008, is approved only for MLG actuators P/N 114-380041-11, P/N 114-380041-13, and P/N 114-380041-15 manufactured by Triumph Actuation Systems (previously manufactured by Frisby).

The FAA partially agrees. We agree that Hawker Beechcraft Service Bulletin 32-3870, dated April 2008, should not be used to do ultrasonic inspections on MLG actuators produced by another manufacturer. However, we disagree that the words “FAA-approved equivalent P/N” should be removed from the applicability or replacement parts language. Our research shows Frisby Airborne Hydraulic, Inc. (Frisby) has PMA approval by identicality for their P/N 1FA10043-3 actuator as a replacement for Hawker Beechcraft P/N 114-380041-15. Therefore by including “FAA-approved equivalent P/N” in both the applicability and replacement parts language of this proposed AD, P/N 1FA10043-3 and any other actuator that is PMA approved by identicality can be used as a replacement part. They will also be subject to the inspection requirement of the AD, but the Hawker Beechcraft service bulletin cannot be used.

We will change the proposed AD action by referencing Hawker Beechcraft Service Bulletin 32-3870, dated April 2008, to do the visual and ultrasonic inspections only for P/N 114-380041-11, P/N 114-380041-13, and P/N 114-380041-15 (or P/N 114-380041-15OVH). For FAA-approved equivalent part numbers, the owner/operator must contact the PMA holder to obtain FAA-approved inspection instructions to do the visual and ultrasonic inspections.

Comment Issue No. 4: P/Ns for Terminating Action

Hawker Beechcraft Corporation requests that we change the words of the AD to make it clear that only MLG actuators P/N 114-380041-11, P/N 114-380041-13, and P/N 114-380041-15 are affected by the AD and that only P/N 114-380041-17 terminates the requirements of the AD. The Applicability is for MLG actuators P/N 114-380041-11, P/N 114-380041-13, and P/N 114-380041-15, but wording in some areas of the AD imply all P/N 114-380041 actuators.

The FAA disagrees. The P/N 114-380041-17 is the most current part number available that is not affected by the inspections proposed in this proposed AD. However, installation of other FAA-approved actuators as terminating action is acceptable, such as P/N 114-380041-7 or P/N 114-380041-9. The wording “FAA-approved equivalent P/N” applies to actuators that are FAA-approved by identicality through the PMA process. Our research shows Frisby has PMA approval for their P/N 1FA10043-3 actuator as a replacement for Hawker Beechcraft P/N 114-380041-15. Therefore by including “FAA-approved equivalent P/N” in the replacement parts language of this proposed AD, P/N 1FA10043-3 can be used as a direct replacement for Hawker Beechcraft P/N 114-380041-15. Since P/N 1FA10043-3 is a PMA part through identicality for P/N 114-380041-15, the AD should also apply to that P/N and any other parts that may have PMA through identicality to P/N 114-380041-11, P/N 114-380041-13, and P/N 114-380041-15.

We will change the proposed AD action to add the language “FAA-approved equivalent P/N” for P/N 114-380041-11, P/N 114-380041-13, and P/N 114-380041-15 into the Applicability section. We will also add that for the purposes of this AD action the phrase “or FAA-approved equivalent part number” in this AD refers to any PMA part that is approved by identicality to the referenced part.

Comment Issue No. 5: Previous Inspections

Wayne R. Modny requests that the compliance inspection criteria defined in paragraphs (e)(1) and (e)(2) of the NPRM address previously inspected parts. If the initial 50-hour visual inspection and the initial 600-cycle ultrasonic inspection have been done following Hawker Beechcraft Mandatory Service Bulletin SB 32-3870, dated April 2008, then these initial inspections should not have to be repeated for the AD.

The FAA agrees. The language as written in paragraph (e) of this proposed AD, “you must do the following, unless already done” allows for the inspections already done following Hawker Beechcraft Mandatory Service Bulletin SB 32-3870, dated April 2008.

We will not change the proposed AD action based on this comment.

Comment Issue No. 6: Overhauled Actuators and New End Caps

Hawker Beechcraft Corporation requests that we add language to the actions of this AD to allow for overhauled actuators that have records that prove an internal fluorescent penetrant inspection had been done and for actuators that have records that prove the end caps are new.

The FAA agrees. For MLG overhauled actuators that have records that prove an internal fluorescent penetrant inspection has been done and for MLG actuators that have records that prove the end caps are new, we agree that the Hawker Beechcraft Mandatory Service Bulletin SB 32-3870, dated April 2008, makes a compliance time allowance for the initial ultrasonic inspection proposed in this AD.

We will change the proposed AD action by adding language that allows compliance time differences for overhauled MLG actuators that have had an internal fluorescent penetrant inspection and for MLG actuators that have new end caps.

Comment Issue No. 7: Compliance Time Units

Hawker Beechcraft Corporation requests that we remove the NOTE with the conversion formula to determine hours time-in-service (TIS) in lieu of cycles because it is not needed or to add the words “If the number of cycles is not known” at the beginning of the note. The 1900 series fleet tracks cycles, and the landing gear component inspections, specifically, are tracked by cycles. The conversion formula could lead to an interpretation that hours TIS should be used even if the number of cycles is known.

The FAA agrees that the note could include language to indicate the formula applies if the number of cycles is not known. However, since an owner/operator must use the conversion formula if the number of cycles is unknown, we are changing the note to an action statement in this proposed AD. NOTES are for information purposes only and do not include required actions. The proposed actions in the AD use cycles for the compliance time.

We will change the note in the Compliance section of this proposed AD to an action and add the words “If the number of cycles is not known” at the beginning of that paragraph.

FAA's Determination and Requirements of This Proposed AD

We have carefully reviewed the available data and determined that the unsafe condition referenced in this document exists or could develop on other products of the same type design; and we should take AD action to correct this unsafe condition.

Certain changes described above expand the scope of the earlier NPRM. As a result, we have determined that it is necessary to reopen the comment period to provide additional opportunity for the public to comment on the proposed AD.

The Supplemental NPRM

Since we issued the earlier NPRM, we have expanded the Applicability section to include airplanes equipped with not only part numbers (P/Ns) 114-380041-11, 114-380041-13, or 114-380041-15 MLG actuators but also airplanes equipped with FAA-approved equivalent P/Ns that have PMA by identicality to those referenced parts. Frisby P/N 1FA10043-3 has PMA by identicality to P/N 114-380041-15; therefore, it is considered an FAA-approved equivalent P/N and the proposed AD applies to airplanes with this part installed. We have also identified an overhauled MLG actuator part number and have included that part number in the Applicability section.

This goes beyond the scope of what was originally proposed in the NPRM. Therefore, we are reopening the comment period and allowing the public the chance to comment on these additional actions.

Costs of Compliance

We estimate that this AD affects 300 airplanes in the U.S. registry.

The ultrasonic inspection includes the time allowed for removing and reinstalling the actuator. We estimate the following costs to do the inspections:

Labor cost | Parts cost | Total cost per airplane | Total cost on U.S. operators
Visual Inspection: .5 work-hour × $80 per hour = $40 | Not applicable | $40 | $12,000
Ultrasonic Inspection: 6 work-hours × $80 per hour = $480 (If the mechanic does not remove the actuator for the ultrasonic inspection, the labor cost will be less) | Not applicable | 480 | 144,000

We estimate the following costs to do any necessary replacements that would be required based on the results of the inspections. We have no way of determining the number of airplanes that may need this replacement:

Labor cost | Parts cost | Total cost per airplane
6 work-hours × $80 per hour = $480 (If the mechanic removes the actuator for the ultrasonic inspection, then the labor cost will be less) | $4,600 per actuator | $5,080

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Hawker Beechcraft Corporation: Docket No. FAA-2008-1312; Directorate Identifier 2008-CE-065-AD.

Comments Due Date

(a) We must receive comments on this airworthiness directive (AD) action by September 30, 2009.

Affected ADs

(b) None.

Applicability

(c) This AD applies to the airplane models and serial numbers listed below that are certificated in any category and equipped with a Hawker Beechcraft part number (P/N) 114-380041-11 (or FAA-approved equivalent P/N), 114-380041-13 (or FAA-approved equivalent P/N), 114-380041-15 (or FAA-approved equivalent P/N), or 114-380041-15OVH main landing gear (MLG) actuator. For the purposes of this AD action the phrase “or FAA-approved equivalent part number” in this AD refers to any PMA part that is approved by identicality to the referenced part. Frisby Airborne Hydraulic, Inc. (Frisby) P/N 1FA10043-3 has parts manufacturer approval (PMA) by identicality to P/N 114-380041-15; therefore, it is considered an FAA-approved equivalent P/N and the AD applies to airplanes with this part installed.

Models | Serial Nos.
(1) 1900 | UA-3.
(2) 1900C | UB-1 through UB-74, UC-1 through UC-174, and UD-1 through UD-6.
(3) 1900D | UE-1 through UE-439.

Unsafe Condition

(d) This AD results from reports of leaking and cracked actuators. We are issuing this AD to detect and correct leaking and cracks in the MLG actuators, which could result in loss of hydraulic fluid. This condition could lead to an inability to extend or lock down the landing gear, which could result in a gear up landing or a gear collapse on landing.

Compliance

(e) To address this problem, you must do the following, unless already done:

Note: The phrase “or FAA-approved equivalent part number” in this AD refers to any PMA part that is approved by identicality to the referenced part.

Actions | Compliance | Procedures
(1) Do a one-time visual inspection of the MLG actuator for cracks. | Within the next 50 hours time-in-service after the effective date of this AD or within the next 30 days after the effective date of this AD, whichever occurs later. | (i) For Hawker Beechcraft parts: Follow Hawker Beechcraft Mandatory Service Bulletin SB 32-3870, dated April 2008.
|  | (ii) For PMA by identicality: Either contact the aircraft certification office (ACO) using the contact information in paragraph (g)(2) of this AD for FAA-approved procedures provided by the PMA holder; or install Hawker Beechcraft parts and follow Hawker Beechcraft Mandatory Service Bulletin SB 32-3870, dated April 2008, and follow any inspection required by this AD.
(2) Do an initial ultrasonic inspection of the MLG actuator. | Initially within the next 600 cycles after the effective date of this AD or within the next 3 months after the effective date of this AD, whichever occurs first. | (A) For Hawker Beechcraft parts: Follow Hawker Beechcraft Mandatory Service Bulletin SB 32-3870, dated April 2008.
| (i) For those airplanes with overhauled MLG actuators (with less than 1,200 cycles) that have records that prove an internal fluorescent penetrant inspection has been done, you may do the initial ultrasonic inspection within the next 600 cycles after the effective date of this AD or within the next 1,200 cycles since the last overhaul, whichever occurs later. | (B) For PMA by identicality: Either contact the ACO using the contact information in paragraph (g)(2) of this AD for FAA-approved procedures provided by the PMA holder; or install Hawker Beechcraft parts and follow Hawker Beechcraft Mandatory Service Bulletin SB 32-3870, dated April 2008, and follow any inspection required by this AD.
| (ii) For those airplanes with MLG actuators with less than 8,000 cycles since new or MLG actuators that have records that prove the end caps are new (less than 8,000 cycles), you may do the initial ultrasonic inspection within the next 1,200 cycles after the effective date of this AD or upon accumulation of 8,000 cycles since the end caps were new, whichever occurs later.
(3) For all airplanes, do repetitive ultrasonic inspections of the MLG actuator. | Repetitively at intervals not to exceed every 1,200 cycles since the last ultrasonic inspection. | (i) For Hawker Beechcraft parts: Follow Hawker Beechcraft Mandatory Service Bulletin SB 32-3870, dated April 2008.
|  | (ii) For PMA by identicality: Either contact the ACO using the contact information in paragraph (g)(2) of this AD for FAA-approved procedures provided by the PMA holder; or install Hawker Beechcraft parts and follow Hawker Beechcraft Mandatory Service Bulletin SB 32-3870, dated April 2008, and follow any inspection required by this AD.
(4) If cracks are found during any inspection required in paragraph (e)(1), (e)(2), and (e)(3) of this AD, replace the MLG actuator with one of the following: (i) MLG actuator P/N 114-380041-15 (or FAA-approved equivalent P/N) or 114-380041-15OVH that is new or has been inspected following paragraphs (e)(1), (e)(2), and (e)(3) of this AD and has been found to not have cracks; or (ii) An FAA-approved actuator. Installation of an MLG actuator P/N other than 114-380041-11 (or FAA-approved equivalent P/N), 114-380041-13 (or FAA-approved equivalent P/N), 114-380041-15 (or FAA-approved equivalent P/N), or 114-380041-15OVH terminates the inspection requirements of paragraphs (e)(1), (e)(2), and (e)(3) of this AD. | Before further flight after the inspection where the cracks are found. | (A) For Hawker Beechcraft parts: Follow Hawker Beechcraft Mandatory Service Bulletin SB 32-3870, dated April 2008. (B) For PMA by identicality: Either contact the ACO using the contact information in paragraph (g)(2) of this AD for FAA-approved procedures provided by the PMA holder; or install Hawker Beechcraft parts and follow Hawker Beechcraft Mandatory Service Bulletin SB 32-3870, dated April 2008, and follow any inspection required by this AD.
(5) Do not install any MLG actuator P/N 114-380041-11 (or FAA-approved equivalent P/N) or 114-380041-13 (or FAA-approved equivalent P/N). | As of the effective date of this AD. | Not applicable.

(f) If the number of cycles is unknown, calculate the compliance times of cycles in this AD by using hours time-in-service (TIS). Multiply the number of hours TIS on the MLG actuator by 4 to come up with the number of cycles. For the purposes of this AD:

(1) 600 cycles equals 150 hours TIS; and

(2) 1,200 cycles equals 300 hours TIS.

(g) If cracks are found during any inspection required in paragraphs (e)(1), (e)(2), or (e)(3) of this AD, report the size and location of the cracks to the FAA within 10 days after the cracks are found or within 10 days after the effective date of this AD, whichever occurs later.

(1) Send report to Don Ristow, Aerospace Engineer, Wichita ACO, 1801 Airport Road, Room 100, Wichita, Kansas 67209; e-mail: donald.ristow@faa.gov.

(2) The Office of Management and Budget (OMB) approved the information collection requirements contained in this regulation under the provisions of the Paperwork Reduction Act of 1980 (44 U.S.C. 3501 et seq.) and assigned OMB Control Number 2120-0056.

Alternative Methods of Compliance (AMOCs)

(h) The Manager, Wichita Aircraft Certification Office (ACO), FAA, has the authority to approve AMOCs for this AD, if requested using the procedures found in 14 CFR 39.19. Send information to ATTN: Don Ristow, Aerospace Engineer, 1801 Airport Road, Room 100, Wichita, Kansas 67209; telephone: (316) 946-4120; fax: (316) 946-4107. Before using any approved AMOC on any airplane to which the AMOC applies, notify your appropriate principal inspector (PI) in the FAA Flight Standards District Office (FSDO), or lacking a PI, your local FSDO.

Related Information

(i) To get copies of the service information referenced in this AD, contact Hawker Beechcraft Corporation, P.O. Box 85, Wichita, Kansas 67201-0085; telephone: (800) 429-5372 or (316) 676-3140; Internet: http://pubs.hawkerbeechcraft.com. To view the AD docket, go to the U.S. Department of Transportation, Docket Operations, M-30, West Building Ground Floor, Room W12-140, 1200 New Jersey Avenue, SE., Washington, DC 20590, or on the Internet at http://dms.dot.gov. The docket number is Docket No. FAA-2008-1312; Directorate Identifier 2008-CE-065-AD.

Issued in Kansas City, Missouri, on August 20, 2009.
Kim Smith,
Manager, Small Airplane Directorate, Aircraft Certification Service.

[FR Doc. E9-20866 Filed 8-28-09; 8:45 am]

BILLING CODE 4910-13-P